DEPARTMENT OF DEFENSE

Office of the Secretary

Record of Decision To Establish a Ground-Based Midcourse Defense Extended Test Range

AGENCIES: Missile Defense Agency, Department of Defense; Federal Aviation Administration; Office of the Associate Administrator for Commercial Space Transportation.

ACTION: Notice.

SUMMARY: The Missile Defense Agency (MDA) is issuing this Record of Decision (ROD) to establish a Ground-Based Midcourse Defense (GMD) extended test range capability, to provide for the construction and operation of a Sea-Based Test X-Band Radar (SBX), and to determine the location of the SBX Primary Support Base (PSB). The extended test range and the SBX are capabilities of the GMD element within the broader conceptual Ballistic Missile Defense System (BMDS). This action will enhance the current test capabilities that include missile launch sites, sensors, and other test equipment associated with the Ronald Reagan Ballistic Missile Test Site (RTS) at Kwajalein Atoll, the Pacific Missile Range Facility (PMRF) in Hawaii, the Kodiak Launch Complex (KLC) in Alaska, Vandenberg Air Force Base (AFB) in California, and other Pacific locations.

FOR FURTHER INFORMATION CONTACT: For further information on the GMD Extended Test Range (ETR) Environmental Impact Statement (EIS) or this ROD contact Ms. Julia Elliot, U.S. Army Space and Missile Defense Command, Attn: SMDC-EN-V, P.O. Box 1500, Huntsville, Alabama 35807-3801.

Public reading copies of the Final EIS and the ROD are available for review at the public libraries within the communities near proposed activities and at the MDA Internet site: http://www.acq.osd.mil/bmdo/.

SUPPLEMENTARY INFORMATION:

A. MDA Decision

The MDA is issuing this ROD, selecting portions of Alternative 2 as described in the GMD ETR EIS, to establish a GMD extended test range capability, to provide for the construction and operation of an SBX, and to select the location of the SBX PSB. This decision includes the capability to conduct single and dual launches of interceptor and target missiles at RTS and Vandenberg AFB. Development of these capabilities will include target launch facility modifications/construction at RTS; modification of launch and support facilities at Vandenberg AFB; construction of an In-Flight Interceptor Communication System Data Terminal (IDT) at Titan Pasture at Vandenberg AFB; a TPS-X radar; added range instrumentation (tracking and range safety radars) at the test site and test support locations; and use of either existing GMD Fire Control/Communications (GFC/C) facilities and links at RTS, or new GFC/C facilities that may be developed at Fort Greely, Alaska and/or Schriever AFB or Cheyenne Mountain Complex, Colorado.

Additionally, MDA has decided to construct an SBX for Pacific range testing. MDA has also decided to establish a Primary Support Base at Adak, Alaska. The vessel will be constructed and outfitted with an XBR and ancillary test equipment in the Gulf of Mexico and will transit to the Primary Support Base (PSB) and testing region when completed.

This Record of Decision makes no decision regarding Alternative 2's components at KLC. The FAA is contemplating re-licensing activities at KLC. Should FAA re-license KLC activities, MDA may issue a second ROD regarding the KLC portion of Alternative 2.

B. Background

In July 2000, the MDA completed the National Missile Defense (NMD) Deployment EIS to support decisions concerning deployment of a GMD (formerly NMD element. At the direction of the Secretary of Defense, the MDA re-directed the GMD element to focus on operationally realistic testing. The GMD ETR EIS analyzed the proposed GMD Extended Test Range actions and alternatives for potential impacts on the environment.

The proposed action analyzed in the GMD ETR EIS is to develop the capability to conduct more realistic interceptor flight tests in support of GMD. The extension of the existing GMD test range will increase the realism of GMD testing by using multiple engagement scenarios, trajectories, geometries, distances, and speeds of target and interceptors that closely resemble those in which an operational system will be required to provide an effective defense. Extended range testing will include pre-launch activities, launch of targets and Ground-Based Interceptors (GBI) from a number of widely separated geographic locations, and missile intercepts over the Pacific Ocean.

On December 16, 2002, President George W. Bush issued National Security Presidential Directive 23 announcing plans to begin fielding an initial set of missile defense capabilities by the year 2004. The MDA proposes to use existing test facilities and infrastructure to the extent possible in fielding these initial capabilities. Some of the assets proposed for the Initial Defensive Operations (IDO) capability are analyzed as part of the GMD ETR EIS. For example, facilities at Vandenberg AFB will also be used in support of the IDO capability. Due to the nature of the IDO, the configuration and use of those assets will be separately analyzed under NEPA, and are also assessed in the relevant cumulative effects sections. Some assets, such as the SBX, will also be used in support of IDO. As the SBX in an IDO role will be operated in the same manner as in a test mode, no further NEPA analysis is required.

C. NEPA Process

The GMD ETR EIS was prepared pursuant to the Council on Environmental Quality (CEQ) regulation implementing the NEPA (40 CFR Parts 1500-1508), Department of Defense (DoD) Instruction 4715.9, and the applicable service environmental regulations that implement these laws and regulations.

The Notice of Intent (NOI) to prepare an EIS for the GMD Extended Test Range was published in the Federal Register on March 28, 2002, initiating the public scoping process. Public scoping meetings were held from April from December 2002 in eight communities perceived to be affected by the proposed GMD extended test range. The Notice of Availability (NOA) of the GMD Extended Test Range Draft EIS was published in the Federal Register on February 7, 2003. This initiated a public review and comment period for the Draft EIS. Seven public hearings were held from February 24 through March 6, 2003. Comments on the Draft EIS were considered in the preparation of the Final EIS. The NOA for the Final EIS was published in the Federal Register on July 15, 2003, initiating an additional 30-day review period. This ROD is the culmination of the NEPA process.

D. Alternatives Considered

1. No-Action Alternative

As required by the CEQ regulations, the GMD ETR EIS evaluated a No-Action Alternative. Under this alternative, the GMD ETR would not be established and interceptor and target launch scenarios would not be fully tested under operationally realistic conditions. All existing launch areas and other support facilities would continue current operations for GMD and other mission activities.

2. Alternative 2 (Selected Alternative)

Target missiles will be launched from Vandenberg AFB, KLC, PMRF, RTS, or from mobile platforms in the Pacific Ocean. GBIs will be launched from Vandenberg AFB or RTS. Dual target and GBI missiles launches will occur in some scenarios. Existing, modified, or newly constructed launch facilities and infrastructure will support these launch activities at the various locations.

Missile acquisition and tracking will be provided by existing test range sensors, shipborne sensors, an SBX, and/or a mobile sensor (TPS-X) positioned at Vandenberg AFB, PMRF, or RTS; and existing/upgraded radars at Beale AFB, California, and Clear Air Station and Eareckson Air Station, Alaska. An IDT will be constructed/installed at a site near the proposed Ground-Based interceptor launch sites on Vandenberg AFB. Six potential sites were considered at Vandenberg for the IDT. Commercial satellite communications terminals will be constructed at launch locations that do not have fiber optic communications links.

3. Alternative 1

Alternative 1 is similar to Alternative 2, with the exception that ground-based interceptor launches would be from KLC and RTS instead of Vandenberg AFB and RTS. The GBI launch would require construction of an IDT and modifications of existing launch support facilities at KLC. Alternative 1 would include site preparation and operation of a TPS-X radar at KLC, Vandenberg AFB, RTS or PMRF and the construction of two GBI silos or one GBI launch pad, and an additional target launch pad that could accommodate GBI launches if needed, and associated support facilities at KLC. There would also be target pad modifications at KLC and RTS along with the installation of a COMSATCOM at KLC. Placement of small mobile telemetry units and mobile C-band radar at KLC and at one or two of the following locations: Pasagshak Point, Kenai, Homer, Soldotna, King Salmon, Adak, Cordova, and Pillar Mountain, Alaska; Pillar Point, California; Bremerton, Washington; Makaha Ridge and PMRF, Hawaii. The other components described in Alternative 2 would remain the same.

4. Alternative 3

Alternative 3 would include activities proposed for Alternatives 1 and 2. This would include GBI launches from KLC, RTS, and Vandenberg AFB, and construction of the required support facilities for dual launches of GBI and target missiles at each location.

5. SBX Primary Support Base Decision. Encompassed within all three alternatives was a proposal to construct and operate the SBX. Six potential sites for a primary support base for the SBX were analyzed in the EIS.

E. Environmental Impacts of Alternatives

The GMD ETR EIS analyzed the environment in terms of 14 resource areas: air quality, airspace, biological resources, cultural resources, geology and soils, hazardous materials and hazardous waste, health and safety, land use, noise, socioeconomics, transportation, utilities, visual and aesthetic resources, and water resources. Subsistence resources were also considered for potential sites in Alaska. Environmental Justice was addressed separately. Each resource area was discussed at each location as applicable. The potential for cumulative impacts was also evaluated in the EIS.

The impacts of the various alternatives are summarized in depth in Tables ES-1A, ES-1B, and Tables ES 2 through ES 11 in the Final ETR EIS (available on the MDA Internet site: http://www.acq.osd.mil/bmdo/). The following is a short comparison of the potential impacts of the alternatives, including the no-action alternative:

1. Kodiak Launch Complex

a. Air Quality. Under the No-Action alternative, single target and commercial launches would continue. Under Alternative 2 (the Selected Alternative), a minimal increase in air emissions from target launch and support facilities construction and operation of mobile telemetry would not affect the region's current attainment status. The results of modeling a dual Peacekeeper target launch to determine exhaust emissions of aluminum oxide, hydrogen chloride, and carbon monoxide show that the level of hydrogen chloride would be below the 1-hour Air Force standard, but would exceed the peak hydrogen chloride standard for a short duration. Other emissions were determined to be within National Ambient Air Quality Standards (NAAQS) and Alaska Ambient Air Quality Standards (AAQS). A single Peacekeeper target launch would be within NAAQS, Alaska AAQS, and U.S. Air force standards. Significant air quality impacts due to target launches are not anticipated. Under Alternative 1, the impacts would be the same as Alternative 2 with the addition of GBI silo construction and GBI launches. The results of modeling to determine exhaust emissions of aluminum oxide, hydrogen chloride, and carbon monoxide show that concentrations produced by dual launches of a Ground-Based Interceptor would remain within National Ambient Air Quality Standards (NAAQS), Alaska Ambient Air Quality Standards (AAQS), and U.S. Air Force standards. Significant air quality impacts due to Ground-Based Interceptor launches are not anticipated. Alternative 3 would have the same impacts as both Alternatives 1 and 2.

b. Biological Resources. Under the No Action Alternative, temporary effects to vegetation from emissions, discoloration and foliage loss and temporary, short-term startle effects from noise to wildlife and birds are possible during testing. Although a remote possibility, individual animals close to the water's surface could be hit by debris. Under Alternative 2 (the Selected Alternative), loss of small amounts of mainly upland vegetation could occur due to construction. Fence lines would likely be altered to avoid impacts to wetlands. Testing impacts would be similar to those noted in the No Action Alternative. Mobile sensors necessary to support Ground-Based Midcourse Defense Extended Test Range activities would be located on existing disturbed areas with minimal effect to biological resources. Alternatives 1 and 3 would have the same impacts as Alternative 2.

c. Hazardous Materials and Hazardous Waste. Under the No Action Alternative, continued handling and use of limited quantities of hazardous and toxic materials related to pre-launch, launch and post-launch activities would generate small quantities of hazardous waste. Under Alternative 2 (Selected Alternative), the target launch activities and support facilities construction would use small quantities of hazardous materials, which would result in the generation of some hazardous and non-hazardous waste that would be similar to current operations. All hazardous materials and waste would be handled in accordance with applicable state and federal regulations. No impact from short-term operation of mobile sensors at existing gravel pad areas are expected. Alternatives 1 and 3 would have the same impacts as Alternative 2.

d. Health and Safety. Under the No Action Alternative, planning and execution of target and commercial launches would continue. Ground and Launch Hazard Areas, Notices to Airmen and Notices to Mariners, and program Safety plans would protect workers and the general public. Under Alternative 2 (Selected Alternative), planning and execution of single and dual target launches would include establishing ground and Launch hazard Areas, issuing Notices to Airmen and Notices to Mariners, and adherence to program Safety plans. These actions would be in compliance with federal, state, and local health and safety requirements and regulations, as well as Department of Defense and Kodiak Launch Complex Safety Policy and would result in no impacts to health and safety. Due to the same precautions taken above, Alternatives 1 and 3 would also result in no impacts to health and safety.

e. Land Use. Under the No Action Alternative, Publication of availability of KLC's beaches and coastline will continue. Under Alternative 2 (Selected Alternative), minimal impacts would occur as a result of site preparation and new construction. This activity will limit the use of a small portion of the overall land available for livestock grazing. Only temporary closures during the transportation of missile components to the launch facilities and up to a full day closure on launch days would occur for the Pasagshak Point Road at the KLC site boundary. Under Alternative 1, the proposed activities would not significantly impact the availability of recreational opportunities. Impacts under Alternatives 1 and 3 would be the same as Alternative 2.

f. Water Resources. Under the No Action Alternative, Alternative 2 (Selected Alternative), and Alternatives 1 and 3, there is a minor potential for short-term increase in erosion and turbidity of surface waters during construction. Missile launches would disperse exhaust emission products over a large area. These emissions would not cause a significant water quality impact. Water quality monitoring would continue on an as-needed basis.

2. Vandenberg Air Force Base

a. Air Quality. Under the No Action Alternative, current missile activities would continue. Under Alternative 2 (Selected Alternative) and Alternative 3, the results of modeling to determine exhaust emissions of aluminum oxide, hydrogen chloride, and carbon monoxide show that concentrations produced by dual launches of a Ground-Based Interceptor would remain within NAAQS, California AAQS, and U.S. Air Force standards. Based upon this, the proposed launches would not cause or contribute to violation of any air quality standards. Under Alternative 1, 2 and 3 the results of modeling a dual Peacekeeper target launch to determine exhaust emissions of aluminum oxide, hydrogen chloride, and carbon monoxide show that the level of hydrogen chloride would be below the 1-hour Air Force standard, but would exceed the peak hydrogen chloride standard for a short duration. Other emissions were determined to be within NAAQS and California AAQS. A single Peacekeeper target launch would be within NAAQS, California AAQS, and U.S. Air Force standards. The proposed launches would not cause or contribute to violation of any air quality standards.

b. Biological Resources. Under all alternatives, temporary effects to vegetation from emissions, discoloration and foliage loss and temporary, short-term startle effects from noise to wildlife and birds are possible. Although a remote possibility, individual animals close to the water's surface could be hit by debris.

c. Cultural Resources. Under the No Action Alternative, resources would continue to be managed in accordance with cultural resources regulations. For GBI launches under Alternative 2 (Selected Alternative) and Alternative 3, possible minor modifications may be required for buildings 1819 and 1900, as well as LF-02, LF-03, or LF-10. All of these are listed as National Register of Historic Places-eligible. Prior to the reuse of these facilities, consultation would occur with the State Historic Preservation Officer to ensure their protection or appropriate mitigation to preserve information concerning these buildings. Only in the unlikely event of flight termination over land (necessary debris recovery within the region of influence) would the possibility for impacts to cultural resources from off-road vehicle activity exist. Even then, all areas affected by ground impacts of flight hardware would be cleared of all recoverable debris in strict accordance with current Vandenberg Air Force Base policy. Under Alternatives 1, 2, and 3, possible minor modifications may be required for target facilities. LF-03 and LF-06 are listed as National Register of Historic Places-eligible. Prior to the reuse of these facilities, consultation would occur with the State Historic Preservation Officer to ensure facilities, consultation would occur with the State Historic Preservation Officer to ensure their protection or appropriate mitigation to reserve information concerning the sites. The potential for impacts due to a flight termination over land would be the same as in Alternative 2.

d. Land Use. Under the No Action Alternative, there would be no impact Vandenberg Air Force Base publicizes recreation availability, and activities are consistent with the California Coastal Zone Management Program. Under Alternative 2 (Selected Alternative) and Alternatives 1 and 3, disruption to land use would occur from routine closures of recreation areas near the region of influence during launches. Such action would represent a minimal impact to land use.

3. Ronald Reagan Ballistic Missile Test Site

Biological Resources. Under all alternatives, temporary affects to vegetation from emissions, discoloration and foliage loss and temporary, short-term startle effects from noise to wildlife and birds are possible. Although a remote possibility, individual animals close to the water's surface could be hit by debris. Personnel would be instructed to avoid areas designated as avian or sea turtle nesting or avian roosting habitat and to avoid all contact with any nest that may be encountered.

4. Pacific Missile Range Facility

a. Air Quality. Under the No Action Alternative, current missile activities would continue. Under Alternative 2 (Selected Alternative) and Alternatives 1 and 3, it is anticipated that operation of the TPS-X or continued missile launches would have no adverse impacts on regional air quality at PMRF. Therefore, there would be no change to the region's current attainment statistics.

b. Biological Resources. Under the No Action Alternative, short-term disturbance to wildlife, including migratory birds, from minor site preparation activities and increased personnel could occur. Reflection from outdoor lighting could disorient the Newell's Townsend's shearwater. Temporary effects to vegetation from emissions, discoloration and foliage loss and temporary, short-term startle effects from noise to wildlife and birds are possible. Although a remote possibility, individual animals close to the water's surface could be hit by debris. For Alternative 2 (Selected Alternative) and alternatives 1 and 3, the TPS-X Radar is not expected to add any additional impacts above those identified in the No Action alternative because the TPS-X will not radiate lower than 5 degrees above horizontal and the relatively small radar beam would normally be in motion which reduces the probability of bird species remaining within this limited region of space.

c. Hazardous Materials and Hazardous Waste. Under the No Action Alternative, continued handling and use of limited quantities of hazardous and toxic materials related to pre-launch, launch and post-launch activities would generate small quantities of hazardous waste. Under Alternative 2 (Selected Alternative) and alternatives 1 and 3, in addition to missile launch activities, TPS-X Radar activities would generate small quantities of hazardous waste. The use and disposal of hazardous materials and wastes would be in accordance with Pacific Missile Range Facility, State of Hawaii, Environmental Protection Agency, Occupational Safety and Health Administration, Department of Transportation, and Department of Defense policies and procedures.

d. Health and Safety. Under the No Action Alternative, planning and execution of target launches would continue. Ground and Launch hazard Areas, Notices to Airmen and Notices to Mariners, and implementation of Safety plans would protect workers and the general public. Under Alternative 2 (Selected Alternative) and Alternatives 1 and 3, TPS-X Radar Electromagnetic Radiation hazard zones would be established within the beam's tracking space and near emitter equipment. A visual survey of the area would verify that all personnel are outside the hazard zone prior to startup. The TPS-X Radar would be prevented from illuminating in a designated cutoff zone, in which operators and all other system elements would be located. Potential interference with other electronic and emitter units (flight navigation systems, tracking radars, etc.) would also be examined prior to startup. Compliance with federal, state, and local health and safety requirements and regulations, safety procedures relative to radar operations, as well as Department of Defense and Pacific Missile Range Facility Safety Policy would result in no impacts to health and safety. Missile launch activities would use the same safety plans and procedures as in the No Action Alternative.

5. Sea-Based Text X-Band Radar

a. Air Quality

1. RTS: The SBX would not be considered a stationary source and would not require a U.S. Army Kwajalein Atoll Environmental Standards New Source Review. The increase in air emissions from operation of the SBX would not affect the region's attainment status.

2. Pearl Harbor: The SBX would not be considered a stationary source and would not require a Prevention of Significant Deterioration review or a Title V permit. Air emissions from the operation of the SBX would be in compliance with appropriate State Implementation Plans.

3. Naval Base Ventura County: The SBX would not be considered a stationary source and would not require a Prevention of Significant Deterioration review or a Title V permit. Air emissions from the operation of the SBX would be in compliance with appropriate State Implementation Plans.

4. Naval Station Everett: The SBX would not be considered a stationary source and would not require a Prevention of Significant Deterioration review or a Title V permit. Air emissions from the operation of the SBX would be in compliance with appropriate State Implementation Plans. Dust suppression measures such as periodic watering of areas being graded, minimizing area traffic, reducing vehicle speeds near work areas, and wet sweeping or otherwise removing soil deposits from paved roadways and parking areas, would be used as required for support facility construction.

5. Adak, Alaska (Selected Alternative): The SBX would not be considered a stationary source and would not require a Prevention of Significant Deterioration review or a Title V permit. Air emissions from the operation of the SBX would be in compliance with appropriate State Implementation Plans.

6. Valdez, Alaska: The SBX would not be considered a stationary source and would not require a Prevention of Significant Deterioration review or a Title V permit. Air emissions from the operation of the SBX would be in compliance with appropriate State Implementation Plans.

b. Airspace. All sites: Potential impacts to airspace would be minimized by adhering to operational requirements. An Electromagnetic Radiation/Electromagnetic Interference survey and analysis and DD Form 1494 would be required as part of the spectrum certification and frequency allocation process. The SBX high-energy radiation area would be configured to minimize potential impacts to aircraft and other potentially affected systems, and would be published on aeronautical charts. In addition, SBX information would be published in the Airport Facility section of the FAA Airport Guide, and local Notices to Airmen would be issued. Flight service personnel would brief pilots flying in the vicinity about the SBX high-energy radiation area.

c. Biological Resources. For all sites, minor, short-term impacts from construction noise, such as starting and temporary displacement, may occur. The SBX is not expected to radiate lower than 10 degrees above horizontal for calibration and maintenance testing at the mooring site. The relatively small radar beam would normally be in motion that reduces the probability of bird species, marine mammals, or sea turtles remaining within this limited region of space. The SBX vessel would incorporate marine pollution control procedures such as keeping decks clear of debris, cleaning spills, and residues, and engaging in spill and pollution prevention practices in compliance with the Uniform National Discharge Standards provisions of the Clean Water Act. The potential for impacts to marine mammals or sea turtles due to an accidental release of diesel fuel is considered low. The relatively slow speed of the SBX platform would preclude the potential for collision with a free-swimming marine mammal.

1. RTS: Overall no adverse impacts to marine mammals or sea turtles are anticipated.

2. Pearl Harbor: Overall no adverse impacts to marine mammals or sea turtles are anticipated.

3. Naval Base Ventura County: No significant long-term adverse impacts are anticipated to seabirds and shorebirds, Guadalupe fur seals, California sea lions, northern elephant and harbor seals and sea otters or to widely distributed, open water species such as gray and killer whales.

4. Naval Station Everett: No significant long-term adverse impacts are anticipated to seabirds and shorebirds (bald eagle), Chinook salmon, bull trout, or widely distributed, open water species such as humpback, blue, fin, sei, and sperm whales; green, leatherback, and loggerhead sea turtles; and Steller sea lions.

5. Adak, Alaska (Selected Alternative): No significant long-term adverse impacts are anticipated to seabirds and water fowl or widely distributed, open water species such as Steller sea lions, sea otters, harbor seals, and whales.

6. Valdez, Alaska: No significant long-term adverse impacts are anticipated to Essential Fisk Habitat, area seabirds and water fowl, or widely distributed, open water species such as humpback, killer and minke whales, sea otters, Steller sea lions, harbor seals, and Dall and harbor porpoise.

d. Hazardous Materials and Waste. All potential sites: The small quantities of potentially hazardous materials used during construction activities would result in generation of added wastes that would be accommodated in accordance with existing protocol and regulations. The SBX would follow U.S. Navy requirements that, to the maximum extent practicable, ships shall retain hazardous waste aboard ship for shore disposal. In compliance with Uniform National Discharge Standards, the SBX vessel would incorporate marine pollution control devices, such as keeping decks clear of debris, cleaning spills and residues and engaging in spill and pollution prevention practices, in design or routine operation. Handling and disposal of hazardous materials and hazardous waste would be in accordance with state, Environmental Protection Agency, Occupational Safety and Health Administration, Department of Transportation, and Department of Defense policies and procedures.

e. Health and Safety. All potential sites: An Electromagnetic Radiation/Electromagnetic Interference survey and analysis and DD Form 1494 would be required as part of the spectrum certification and frequency allocation process. Implementation of SBX operational safety procedures, including establishment of controlled areas, and limitations in the areas subject to illumination by the radar units, would preclude any potential safety hazard to either the public or workforce. These limitations would be similar to the existing Ground-Based Radar Prototype on Kwajalein, resulting in no impacts to health and safety.

f. Visual and Aesthetic Resources.

1. RTS: No impact.

2. Pearl Harbor: Visual impacts would be minor, as the SBX would be comparable to ships passing along the horizon. The SBX would be moored at an adequate distance away from the shore and would not obstruct panoramic views. Visual resources could be affected by the SBX if it is in the line of site from boats to the island; however, the SBX would only inhibit the view of the island temporarily as the boat passes by.

3 Naval Base Ventura County: No impact.

4. Naval Station Everett: While there is a high amount of viewer concern, the SBX would be considered visually compatible with the port and present military uses; therefore only moderate impacts are expected.

5. Adak, Alaska (Selected Alternative): Due to limited visibility, a moderate scenic value, and low viewer concern, there would be minimal adverse impacts.

6. Valdez, Alaska: Because Valdez is the site of the terminus of the Trans-Alaska Pipeline, numerous oil tankers are entering Prince William Sound which would limit the impacts to visual resources caused by the SBX. However, adverse impacts to visual resources could occur due to some concerned viewers and a high scenic integrity.

F. Mitigation Measures and Monitoring

The applicable mitigation measures specified for each of the sites selected will be implemented as part of the GMD ETR action. A Mitigation Monitoring Plan has been developed to assist in tracking and implementing these mitigation measures. With the implementation of the mitigation measures, all practicable means to avoid or minimize environmental harm from establishing the GMD ETR considered in this ROD have been adopted.

G. Environmentally Preferred Alternative

The environmentally preferred alternative in the EIS is the No-Action Alternative (not proceeding with the GMD ETR) since there will be no new construction or operation of GMD elements at any of the potential sites. Continuation of current site operations at these locations will result in few additional environmental impacts.

Among the three alternatives to the Proposed Action in the EIS, Alternative 2 is the environmentally preferred action to establish and operate the GMD ETR because the proposed GBI launches from existing silos at Vandenberg AFB will require less construction and ground disturbance than the other alternatives. The proposed launches from Vandenberg AFB would be within the number of launches per year allowed in existing agreements with state and federal regulatory agencies. Adak, Alaska is the environmentally preferred location to establish a SBX PSB because, while placement of the mooring may cause minor impacts to the environment, locating the SBX at Adak would require little or no new construction of administrative or warehouse facilities and operations would have minimal adverse impacts on the surrounding environment.

Conclusion

In accordance with NEPA, I have considered the information contained within the GMD ETR EIS as well as cost, mission requirements and other factors in deciding to establish an extended GMD test range capability.

I have decided to select Alternative 2 over the other alternatives to the proposed action. Although the No-Action Alternative has fewer environmental impacts, it does not support the agency's ability to conduct realistic testing nor does it support IDO as directed by the President. Selection of Alternative 2 will meet the mission requirements of creating an extended test range for the GMD wile utilizing, to the greatest extent practicable, existing test assets at Vandenberg AFB, the Pacific Missile Range Facility and the Reagan Test Site and associated test support sites. Alternative two also offers the quickest path to enable the program to support IDO and provide a protective capability for the nation.

I have chosen Alternative 2 over Alternative 3 because there are currently no plans to finance GBI interceptors at KLC. If funding becomes a realistic possibility in the future, I will re-assess this view, and perform additional NEPA as appropriate before making any decisions in this regard.

LTG R. KADISH have also decided to defer any decisions at KLC regarding the remainder of the actions contemplated in Alternative 2. FAA, as cooperating agency to this EIS, may entertain relicensing activities at KLC. LTG R. Kadish believe my decision should be deferred pending those activities so that LTG R. Kadish can be confident that all operational and environmental concerns have been addressed.If FAA acts to re-license KLC, LTG R. Kadish may issue an additional ROD at that time, as appropriate.

LTG R. Kadish have further decided to construct and operate the SBX, and have chosen Adak, Alaska as the location for the PSB. When work commenced on this EIS, the President had not directed the IDO capability enhancements. Accordingly, the SBX PSB analysis was focused only on various test locations in the Pacific region. In view of the President's directive on 16 December 2002, LTG R. Kadish have re-examined candidate PSB locations and selection Adak, Alaska as the most prudent location to support IDO while still supporting the test program.

Dated: August 19, 2003.
L.M. Bynum,
Alternate OSD Federal Register Liaison Officer, Department of Defense.

[FR Doc. 03-21653 Filed 8-25-03; 8:45 am]

BILLING CODE 5001-08-M